DEPARTMENT OF JUSTICE

Notice of Lodging of Consent Decree Pursuant to the Comprehensive Environmental Response Compensation and Liability Act (“CERCLA”)

Notice is hereby given that a proposed consent decree in United States v. Aerosystems, et al., Civ. No. 89-1780 (D.N.J.), was lodged with the United States District Court for the District of New Jersey on December 10, 2002 (“Consent Decree”). The Consent Decree resolves the liability of all of the defendants, against whom the United States asserted a claim on behalf of the United States Environmental Protection Agency (“EPA”) under sections 106 and 107(a) of the Comprehensive Environmental Response, Compresentation, and Liability Act, as amended (“CERCLA”), 42 U.S.C. 9606 and 9607(a), and the New Jersey Uniform Fraudulent Transfer Act, N.J.S. §§ 25:2-20 et seq for injunctive relief and recovery of costs incurred by the United States in connection with the Metaltec/Aerosystems Superfund Site, located in Franklin, New Jersey.

This is an ability to pay settlement based upon expert review of financial documentation provided to the United States by the defendants. This settlement calls for the liquidation of the Superfund Site property, in addition to an up-front cash payment to the United States of $60,000.00 and an additional $480,000.00 in installment payments over the next five years. These funds will be deposited into a special account to pay for response activities at the Site.

The Department of Justice will receive, for a period of thirty (30) days from the date of this publication, comments relating to the proposed Consent Decree. Comments should be addressed to the Assistant Attorney General, Environment and Natural Resources Division, PO Box 7611, U.S. Department of Justice, Washington, DC 20044-7611, and should refer to United States v. Aerosystems, et al., DOJ Ref. #90-11-3-416.

The proposed Consent Decree may be examined at the office of the United States Attorney for the District of New Jersey, 502 Federal Building, 970 Broad Street (contact Assistant United States Attorney Susan Cassell); and the Region II Office of the Environmental Protection Agency, 290 Broadway, New York, New York 10007-1866 (contact Assistant Regional Counsel, Amelia Wagner). A copy of the proposed Consent Decree may be obtained by mail from the Consent Decree Library, PO Box 7611. Washington, DC 20044-7611 or by faxing a request to Tonia Fleetwood, fax no. (202) 514-0097, phone confirmation number (202) 514-1547. In requesting a copy please refer to the referenced case and enclose a check in the amount of $10.00 (25 cents per page reproduction costs) for the Consent Decree, payable to the U.S. Treasury.

Ronald Gluck,
Assistant Section Chief, Environmental Enforcement Section, Environment and Natural Resources Division.

[FR Doc. 02-33082 Filed 12-31-02; 8:45 am]

BILLING CODE 4410-15-M